DEPARTMENT OF COMMERCE

International Trade Administration

[C-351-829]

Certain Hot-Rolled Flat-Rolled Carbon-Quality Steel Products From Brazil: Extension of Time Limit for Final Results of Countervailing Duty Administrative Review

AGENCY: Import Administration, International Trade Administration, Department of Commerce

DATES: Effective Date: December 14, 2010.

FOR FURTHER INFORMATION CONTACT: Myrna Lobo or Justin Neuman, AD/CVD Operations, Office 6, Import Administration, International Trade Administration, U.S. Department of Commerce, 14th Street and Constitution Avenue, NW., Washington, DC 20230; telephone: (202) 482-2371 or (202) 482-0486, respectively.

SUPPLEMENTARY INFORMATION:

Background

On October 20, 2010, the Department of Commerce (the Department) published the preliminary results of the administrative review of the countervailing duty order on certain hot-rolled flat-rolled carbon-quality steel products from Brazil for the period January 1, 2008, through December 31, 2008. See Certain Hot-Rolled Flat-Rolled Carbon Quality Steel Products From Brazil: Preliminary Results of Countervailing Duty Administrative Review, 75 FR 64700 (October 20, 2010). This review covers Usinas Siderurgicas de Minas Gerais S.A. (USIMINAS) and its subsidiary, Companhia Siderurgica Paulista (COSIPA), producers/exporters of the subject merchandise to the United States.

Extension of Time Limit for Final Results

Pursuant to section 751(a)(3)(A) of the Tariff Act of 1930, as amended (the Act), and 19 CFR 351.213(h)(1), the Department shall issue final results in an administrative review of a countervailing duty order within 120 days after the date on which notice of the preliminary results was published in the Federal Register. However, if the Department determines that it is not practicable to complete the review within the time limit, section 751(a)(3)(A) of the Act and 19 CFR 351.213(h)(2) allow the Department to extend the 120-day period up to 180 days.

The final results of this countervailing duty administrative review are currently due February 17, 2011. Pursuant to section 751(a)(3)(A) of the Act and 19 CFR 351.213(h)(2), we determine that it is not practicable to complete the results of this review within the original time limit. The Department had to request additional information from USIMINAS/COSIPA and the Government of Brazil after the preliminary results. Consequently, the Department needs additional time to analyze this information and to consider comments filed by the parties. In accordance with section 751(a)(3)(A) of the Act, the Department has decided to extend the time limit for the final results from 120 days to 180 days; the final results will now be due no later than April 18, 2011.

This notice is issued and published in accordance with sections 751(a)(3)(A) and 777(i)(1) of the Act.

Dated: December 7, 2010.
Christian Marsh,
Deputy Assistant Secretary for Antidumping and Countervailing Duty Operations.

[FR Doc. 2010-31367 Filed 12-13-10; 8:45 am]

BILLING CODE 3510-DS-P